DEPARTMENT OF HEALTH AND HUMAN SERVICES

Centers for Disease Control and Prevention

[30Day-17-16AXB]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Feasibility of Social Distancing Measures in K-12 Schools in the United States—New—National Center for Emerging and Zoonotic Infectious Diseases (NCEZID), Centers for Disease Control and Prevention (CDC).

Background and Brief Description

The Centers for Disease Control and Prevention (CDC), National Center for Emerging and Zoonotic Infectious Diseases (NCEZID), Division of Global Migration and Quarantine (DGMQ), requests approval of a new information collection to identify potential social distancing strategies to reduce person-to-person contact among students and staff in K-12 schools that are implementable without causing major detrimental effects to ongoing education activities. CDC is requesting a one-year approval to collect information.

The information collection for which approval is sought is in accordance with DGMQ/CDC's mission to reduce morbidity and mortality in mobile populations, and to prevent the introduction, transmission, or spread of communicable diseases within the United States. Insights gained from this information collection will assist in the planning and implementation of CDC Pre-Pandemic Community Mitigation Guidance on the use of school-based measures to slow transmission during an influenza pandemic.

School-aged children are often the main introducers and an important transmission source of influenza and other respiratory viruses in their families, and school-based outbreaks frequently pre-date wide-spread influenza transmission in the surrounding communities. Therefore, infection control measures undertaken to reduce virus transmission among children at schools may also help prevent or postpone influenza outbreaks in communities. In respiratory transmission of influenza, proximity to the person with influenza plays a significant role. Strategies that increase physical distance between students and/or reduce the duration of person to person contact in school settings may, theoretically, be effective in slowing influenza transmission. There have been no evaluations to date of feasibility of implementing social distancing measures other than school closures. Therefore, there is a need to research alternative social distancing strategies that can help reduce influenza transmission in schools while minimizing social and economic burdens on the community.

CDC staff proposes that the information collection for this package will target senior education officials, senior health officials, and representatives from the National Association of School Nurses, school safety organizations/law enforcement, and National Distance Learning Association. CDC will collect qualitative data using focus group discussions on: (a) Current knowledge, attitudes, and potential practices with regard to organizing and delivering K-12 instruction in ways that help increase physical distance among students and/or reduce duration of in-person instruction at schools (including use of distance learning options), while preserving the normal education process; and (b) facilitating and inhibiting factors for implementing and sustaining the potential social distancing options in emergencies as an alternative to the complete student dismissal in K-12 schools.

Findings obtained from this information collection will be used to inform the update of CDC's Pre-pandemic Community Mitigation Guidance on the implementation of school related measures to prevent the spread of influenza. This Guidance is used as an important planning and reference tool for both State and local health departments in the United States.

There are no costs to the respondents other than their time. The maximum total estimated annual burden hours are 640.

Estimated Annualized Burden Hours
Type of respondents | Form name | Number of respondents | Number of responses per respondent | Avg. burden per response (in hrs.)
Senior educators; senior health officials; representatives from the National Association of School Nurses, school safety organizations/law enforcement, and National Distance Learning Association | Focus Group Interview Guide (semi-structured questionnaire) | 320 | 1 | 2

Leroy A. Richardson,
Chief, Information Collection Review Office, Office of Scientific Integrity, Office of the Associate Director for Science, Office of the Director, Centers for Disease Control and Prevention.

[FR Doc. 2016-30777 Filed 12-21-16; 8:45 am]

BILLING CODE 4163-18-P